DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective date: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Adminstrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Randolph County, Arkansas, and Incorporated Areas
Docket No.: FEMA-B-1130
Baltz Lake | Approximately 1,800 feet downstream of State Highway 115 | +278 | Unincorporated Areas of Randolph County.
| Approximately 900 feet upstream of State Highway 115 | +279
Black River | Approximately 9,000 feet downstream of the confluence with Mill Creek | +268 | City of Pocahontas, Unincorporated Areas of Randolph County.
| Approximately 2,250 feet upstream of the confluence with Pettit Creek | +269
Mill Creek | Just upstream of Ridgecrest Road | +270 | City of Pocahontas, Unincorporated Areas of Randolph County.
| Approximately 600 feet upstream of U.S. Route 62 | +288
Pettit Creek | At the confluence with the Black River | +269 | City of Pocahontas, Unincorporated Areas of Randolph County.
| Approximately 1,500 feet upstream of U.S. Route 67 | +269
* National Geodetic Vertical Datum.
+ North American Vertical Datum.
# Depth in feet above ground.
‸ Mean Sea Level, rounded to the nearest 0.1 meter.
ADDRESSES
City of Pocahontas
Maps are available for inspection at 410 North Marr Street, Pocahontas, AR 72455.
Unincorporated Areas of Randolph County
Maps are available for inspection at 107 West Broadway Street, Pocahontas, AR 72455.
White County, Arkansas, and Incorporated Areas
Docket No.: FEMA-B-1021
Deener Creek | Approximately 2.08 miles upstream of the Rocky Branch confluence | +237 | Unincorporated Areas of White County.
| Approximately 2.42 miles upstream of the Rocky Branch confluence | +240
Gum Creek Flooding Effects | Just upstream of Collins Road | +213 | Unincorporated Areas of White County.
| Approximately 0.55 mile upstream of Missouri Pacific Railroad | +228
Little Red River | Just upstream of U.S. Route 67 | +211 | Unincorporated Areas of White County.
| Approximately 850 feet upstream of Davis Drive | +215
Overflow Creek Tributary | Approximately 500 feet downstream of State Highway 367 | +216 | Unincorporated Areas of White County.
| Approximately 850 feet upstream of State Highway 367 | +234
Red Cut Slough | Just upstream of the Missouri Pacific Railroad | +220 | City of Beebe, Unincorporated Areas of White County of Beebe.
| Approximately 1,044 feet downstream of the Red Cut Slough Tributary confluence | +220
Red Cut Slough Tributary | Just upstream of State Highway 367 | +224 | City of Beebe, Unincorporated Areas of White County.
| Just upstream of West Mississippi Street | +235
Red Cut Slough Tributary 2 | At the Red Cut Slough confluence | +220 | City of Beebe, Unincorporated Areas of White County.
| Approximately 1,050 feet downstream of West Center Street | +230
Red Cut Slough Tributary A | Just upstream of Missouri Pacific Railroad | +224 | City of Beebe, Unincorporated Areas of White County.
| Approximately 128 feet upstream of California Street | +229
* National Geodetic Vertical Datum.
+ North American Vertical Datum.
# Depth in feet above ground.
‸ Mean Sea Level, rounded to the nearest 0.1 meter.
ADDRESSES
City of Beebe
Maps are available for inspection at 321 North Elm Street, Beebe, AR 72012.
Unincorporated Areas of White County
Maps are available for inspection at 119 West Arch Avenue, Searcy, AR 72143.
Larimer County, Colorado, and Incorporated Areas
Docket No.: FEMA-B-1179
Boxelder Creek Overflow Downstream | Approximately 914 feet downstream of State Highway 14 | +4933 | Unincorporated Areas of Larimer County.
| Approximately 0.6 mile upstream of State Highway 14 | +4947
Boxelder Creek Overflow West | Approximately 235 feet downstream of I-25 Frontage Road | +4928 | Unincorporated Areas of Larimer County.
| Approximately 185 feet downstream of Mulberry Street | +4933
Business Park Denrose | Approximately 135 feet upstream of Denrose Court | +4932 | Unincorporated Areas of Larimer County.
| Approximately 360 feet upstream of Denrose Court | +4934
Business Park Middle | Approximately 550 feet downstream of Denrose Court | +4930 | Unincorporated Areas of Larimer County.
| Approximately 75 feet downstream of Denrose Court | +4931
Business Park South | Approximately 140 feet downstream of Denrose Court | +4931 | Unincorporated Areas of Larimer County.
| At the downstream side of Denrose Court | +4934
Business Park West | Approximately 260 feet downstream of Denrose Court | +4930 | Unincorporated Areas of Larimer County.
| At the upstream side of Denrose Court | +4932
Cache La Poudre L Path | Approximately 350 feet downstream of Prospect Road | +4886 | City of Fort Collins, Unincorporated Areas of Larimer County.
| Approximately 440 feet downstream of Timberline Road | +4910
Cache La Poudre Lowflow Channel | Approximately 450 feet downstream of County Road 9 | +4882 | City of Fort Collins.
| Approximately 300 feet downstream of County Road 9 | +4883
Cache La Poudre River | Approximately 800 feet downstream of County Road 9 | +4883 | City of Fort Collins.
| Approximately 680 feet downstream of Prospect Road | +4898
Shields Street Divided Flow Path-Windtrail Swale (backwater effects from Spring Creek) | From the Spring Creek confluence to approximately 600 feet upstream of the Spring Creek confluence | +5000 | City of Fort Collins.
Shields Street Overflow | Approximately 190 feet downstream of Hill Pond Road | +5020 | City of Fort Collins.
| Approximately 360 feet upstream of Hill Pond Road | +5024
Spring Canyon Park Diversion | At the upstream side of Spring Canyon Park Weir | +5122 | City of Fort Collins.
| Approximately 1,450 feet upstream of Spring Canyon Park Weir | +5125
Spring Creek | Approximately 970 feet downstream of Prospect Road | +4904 | City of Fort Collins, Unincorporated Areas of Larimer County.
| Approximately 0.7 mile upstream of Spring Canyon Park Pedestrian Trail | +5167
* National Geodetic Vertical Datum.
+ North American Vertical Datum.
# Depth in feet above ground.
‸ Mean Sea Level, rounded to the nearest 0.1 meter.
ADDRESSES
City of Fort Collins
Maps are available for inspection at the Stormwater Utilities Department, 700 Wood Street, Fort Collins, CO 80521.
Unincorporated Areas of Larimer County
Maps are available for inspection at 200 West Oak Street, Fort Collins, CO 80521.
Bradford County, Florida, and Incorporated Areas
Docket No.: FEMA-B-1115
Lake Crosby | Entire shoreline | +135 | City of Starke, Unincorporated Areas of Bradford County.
Lake Rowell | Entire shoreline | +135 | Unincorporated Areas of Bradford County.
Lake Sampson | Entire shoreline | +135 | Unincorporated Areas of Bradford County.
Unnamed Ponding Area | North boundary: approximately 2,000 feet south of Route 100/East boundary: approximately 1,000 feet west of Southwest 75th Avenue/South boundary: Southwest 163rd Street/West boundary: approximately 1,500 feet east of Southwest 101st Avenue | +138 | Unincorporated Areas of Bradford County.
* National Geodetic Vertical Datum.
+ North American Vertical Datum.
# Depth in feet above ground.
‸ Mean Sea Level, rounded to the nearest 0.1 meter.
ADDRESSES
City of Starke
Maps are available for inspection at the City Clerk's Office, 209 North Thompson Street, Starke, FL 32091.
Unincorporated Areas of Bradford County
Maps are available for inspection at the Bradford County Building and Zoning Department, 945-F North Temple Avenue, Starke, FL 32091.
Sedgwick County, Kansas, and Incorporated Areas
Docket No.: FEMA-B-1185
Calfskin Creek | Approximately 200 feet downstream of Maize Road | +1317 | City of Wichita, Unincorporated Areas of Sedgwick County.
| Approximately 1.25 miles upstream of Pawnee Road | +1339
Dry Creek North of Calfskin Creek | Approximately 250 feet downstream of 135th Street | +1349 | City of Wichita, Unincorporated Areas of Sedgwick County.
| Approximately 0.41 mile upstream of 167th Street | +1392
Middle Fork Calfskin Creek | At the North Fork Calfskin Creek confluence | +1326 | City of Wichita, Unincorporated Areas of Sedgwick County.
| Approximately 0.56 mile upstream of 151st Street | +1407
North Fork Calfskin Creek | Approximately 175 feet downstream of Maple Street | +1323 | City of Wichita, Unincorporated Areas of Sedgwick County.
| Approximately 1.1 miles upstream of 151st Street | +1387
Tributary to Calfskin Creek | At the Calfskin Creek confluence | +1333 | City of Wichita, Unincorporated Areas of Sedgwick County.
| Approximately 450 feet upstream of Pawnee Road | +1353
Tributary to North Fork Calfskin Creek | Approximately 700 feet downstream of 135th Street | +1347 | City of Wichita, Unincorporated Areas of Sedgwick County.
| Approximately 0.66 mile upstream of North Aksarben Street | +1369
Unnamed Tributary (backwater effects from Tributary to North Fork Calfskin Creek) | From approximately 550 feet upstream of the Tributary to North Fork Calfskin Creek confluence to approximately 800 feet upstream of 13th Street | +1362 | City of Wichita, Unincorporated Areas of Sedgwick County.
* National Geodetic Vertical Datum.
+ North American Vertical Datum.
# Depth in feet above ground.
‸ Mean Sea Level, rounded to the nearest 0.1 meter.
ADDRESSES
City of Wichita
Maps are available for inspection at the Office of Storm Water Management, 455 North Main Street, 8th Floor, Wichita, KS 67202.
Unincorporated Areas of Sedgwick County
Maps are available for inspection at the Sedgwick County Code Enforcement Office, 1144 South Seneca Street, Wichita, KS 67213.
Washington County, Mississippi, and Incorporated Areas
Docket No.: FEMA-B-1159
Steele Bayou Control Structure | An area bounded by the county boundary to the south and east, State Highway 436 to the north, and West Side Lake Washington Road to the west | +100 | Unincorporated Areas of Washington County.
* National Geodetic Vertical Datum.
+ North American Vertical Datum.
# Depth in feet above ground.
‸ Mean Sea Level, rounded to the nearest 0.1 meter.
ADDRESSES
Unincorporated Areas of Washington County
Maps are available for inspection at the Washington County Courthouse, 900 Washington Avenue, Greenville, MS 38701.
Hunterdon County, New Jersey (All Jurisdictions)
Docket No.: FEMA-B-1152
Brookville Creek | At the confluence with the Delaware and Raritan Canal | +78 | Borough of Stockton, Township of Delaware.
| Approximately 275 feet upstream of State Route 29 (South Main Street) | +78
Delaware River | At the Mercer County boundary | +65 | Borough of Frenchtown, Borough of Milford, Borough of Stockton, City of Lambertville, Township of Alexandria, Township of Delaware, Township of Holland, Township of Kingwood, Township of West Amwell.
| At the Warren County boundary | +159
Little Nishisakawick Creek | At the confluence with the Delaware River | +123 | Borough of Frenchtown.
| Approximately 590 feet upstream of State Route 29 (Trenton Avenue) | +123
Milford Creek | At the confluence with the Delaware River | +134 | Borough of Milford.
| Approximately 1,100 feet downstream of Bridge Road | +134
Musconetcong River | At the confluence with the Delaware River | +159 | Township of Holland.
| Approximately 1,100 feet downstream of Mountain Joy Road | +159
Nishisakawick Creek | At the confluence with the Delaware River | +123 | Borough of Frenchtown.
| Approximately 150 feet upstream of State Route 12 (Kingwood Avenue) | +123
Swan Creek | At the confluence with the Delaware River | +69 | City of Lambertville.
| Approximately 40 feet upstream of State Route 29 (South Main Street) | +69
Tributary No. 1 to Delaware River | At the confluence with the Delaware River | +144 | Township of Holland.
| Approximately 775 feet upstream of the railroad bridge | +144
Wickecheoke Creek | At the confluence with the Delaware River | +84 | Borough of Stockton, Township of Delaware.
| Approximately 600 feet upstream of State Route 29 | +84
* National Geodetic Vertical Datum.
+ North American Vertical Datum.
# Depth in feet above ground.
‸ Mean Sea Level, rounded to the nearest 0.1 meter.
ADDRESSES
Borough of Frenchtown
Maps are available for inspection at the Borough Hall, 29 2nd Street, Frenchtown, NJ 08825.
Borough of Milford
Maps are available for inspection at the Borough Hall, 30 Water Street, Milford, NJ 08848.
Borough of Stockton
Maps are available for inspection at the Borough Hall, 2 South Main Street, Stockton, NJ 08559.
City of Lambertville
Maps are available for inspection at City Hall, 18 York Street, Lambertville, NJ 08530.
Township of Alexandria
Maps are available for inspection at the Alexandria Township Municipal Office, 782 Frenchtown Road, Milford, NJ 08848.
Township of Delaware
Maps are available for inspection at the Delaware Township Municipal Building, 570 Rosemont-Ringoes Road, Sergeantsville, NJ 08557.
Township of Holland
Maps are available for inspection at the Holland Township Municipal Building, 61 Church Road, Milford, NJ 08848.
Township of Kingwood
Maps are available for inspection at the Kingwood Township Municipal Building, 599 Oak Grove Road and County Road 519, Frenchtown, NJ 08825.
Township of West Amwell
Maps are available for inspection at the West Amwell Township Municipal Building, 150 Rocktown-Lambertville Road, Lambertville, NJ 08530.
Dutchess County, New York (All Jurisdictions)
Docket No.: FEMA-B-1014
East Branch Wappinger Creek Reach 1 | Approximately 665 feet upstream of New York State Route 82 | +282 | Town of Washington.
| Approximately 1,529 feet upstream of New York State Route 82 | +283
Fishkill Creek | Approximately 300 feet upstream of the confluence with the Hudson River | +7 | City of Beacon, Town of Beekman, Town of East Fishkill, Town of Fishkill, Town of Union Vale, Village of Fishkill.
| Just downstream of Clubhouse Lane | +488
Maritje Kill | Approximately 30 feet upstream of the railroad | +10 | Town of Hyde Park.
| Approximately 4,230 feet upstream of Crum Elbow Road | +252
Rhinebeck Kill | Approximately 1.07 miles upstream of State Route 9G | +165 | Town of Red Hook.
| Approximately 1.08 miles upstream of State Route 9G | +165
Saw Kill | At Linden Avenue | +183 | Village of Red Hook.
| Approximately 937 feet upstream of Linden Avenue | +183
Sprout Creek #2 | Approximately 80 feet downstream of County Route 90 | +565 | Town of Washington.
| Just upstream of County Route 90 | +566
Stony Creek | Approximately 0.55 mile downstream of Mill Street | +75 | Town of Red Hook.
| Approximately 0.59 mile downstream of Mill Street | +75
Swamp River Reach 1 | At the confluence with the Tenmile River | +362 | Town of Dover.
| Approximately 600 feet above the confluence with the Tenmile River | +365
Swamp River Reach 2 | Approximately 0.52 mile upstream of Kitchen Road | +424 | Town of Dover.
| Approximately 0.59 mile upstream of Kitchen Road | +424
Sylan Lake Outlet | At the confluence with Fishkill Creek | +293 | Town of East Fishkill.
| Approximately 950 feet upstream of the confluence with Fishkill Creek | +293
Tenmile River | At the Fairfield/Litchfield County, Connecticut, boundary | +292 | Town of Amenia, Town of Dover.
| Approximately 2,824 feet upstream of the railroad | +388
Wells Brook | At the confluence with the Tenmile River | +373 | Town of Dover.
| Approximately 800 feet upstream of the confluence with the Tenmile River | +374
Whaley Lake Stream | At the confluence with Fishkill Creek | +351 | Town of Beekman
| Approximately 500 feet upstream of the confluence with Fishkill Creek | +351
Whortlekill Creek Reach 1 | At the confluence with Fishkill Creek | +234 | Town of East Fishkill.
| Approximately 1,800 feet upstream of the confluence with Fishkill Creek | +234
* National Geodetic Vertical Datum.
+ North American Vertical Datum.
# Depth in feet above ground.
‸ Mean Sea Level, rounded to the nearest 0.1 meter.
ADDRESSES
City of Beacon
Maps are available for inspection at City Hall, 1 Municipal Center, Beacon, NY 12508.
Town of Amenia
Maps are available for inspection at the Town Hall, 36B Mechanic Street, Amenia, NY 12501.
Town of Beekman
Maps are available for inspection at the Beekman Town Hall, 4 Main Street, Poughquag, NY 12570.
Town of Dover
Maps are available for inspection at the Dover Town Hall, 126 East Duncan Hill Road, Dover Plains, NY 12522.
Town of East Fishkill
Maps are available for inspection at the East Fishkill Town Hall, 330 State Route 376, Hopewell Junction, NY 12533.
Town of Fishkill
Maps are available for inspection at the Town Hall, 807 State Route 52, Fishkill, NY 12524.
Town of Hyde Park
Maps are available for inspection at the Town Hall, 4383 Albany Post Road, Hyde Park, NY 12538.
Town of Red Hook
Maps are available for inspection at the Red Hook Town Hall, 7340 South Broadway, Red Hook, NY 12571.
Town of Union Vale
Maps are available for inspection at the Union Vale Town Hall, 249 Duncan Road, LaGrangeville, NY 12540.
Town of Washington
Maps are available for inspection at the Town Hall, 10 Reservoir Drive, Washington, NY 12545.
Village of Fishkill
Maps are available for inspection at the Village Hall, 1095 Main Street, Fishkill, NY 12524.
Village of Red Hook
Maps are available for inspection at the Village Hall, 7467 South Broadway, Red Hook, NY 12571.
Llano County, Texas, and Incorporated Areas
Docket No.: FEMA-B-1085
Colorado River | Just upstream of the confluence with Spring Branch Creek | +830 | City of Sunrise Beach Village, Unincorporated Areas of Llano County.
| Approximately 1.2 miles upstream of County Road 222 | +1025
Dry Creek | At the confluence with the Llano River | +858 | Unincorporated Areas of Llano County.
| Just downstream of Ranch Road 3404 | +860
* National Geodetic Vertical Datum.
+ North American Vertical Datum.
# Depth in feet above ground.
‸ Mean Sea Level, rounded to the nearest 0.1 meter.
ADDRESSES
City of Sunrise Beach Village
Maps are available for inspection at 124 Sunrise Drive, Sunrise Beach Village, TX 78643.
Unincorporated Areas of Llano County
Maps are available for inspection at 801 Ford Street, Llano, TX 78643.
Carbon County, Utah, and Incorporated Areas
Docket No.: FEMA-B-1158
Grassy Trail Creek | Approximately 320 feet downstream of the confluence with Northern Slope Tributary | +6167 | City of East Carbon.
| Approximately 2.12 miles upstream of the confluence with Northern Slope Tributary | +6408
Northern Slope Tributary | At the confluence with Grassy Trail Creek | +6170 | City of East Carbon.
| Approximately 0.53 mile upstream of the confluence with Grassy Trail Creek | +6234
Price River | Approximately 0.40 mile downstream of 760 North Street | +5544 | City of Helper, Unincorporated Areas of Carbon County.
| Approximately 760 feet downstream of Union Pacific Railroad | +5955
Spring Canyon Wash | Just upstream of the confluence with the Price River | +5858 | City of Helper.
| Approximately 500 feet upstream of Canyon Street | +5918
Spring Glen Wash | At the confluence with the Price River | +5736 | Unincorporated Areas of Carbon County.
| Approximately 0.52 mile upstream of 1900 West Street | +5848
* National Geodetic Vertical Datum.
+ North American Vertical Datum.
# Depth in feet above ground.
‸ Mean Sea Level, rounded to the nearest 0.1 meter.
ADDRESSES
City of East Carbon
Maps are available for inspection at City Hall, 105 West Geneva Drive, East Carbon, UT 84520.
City of Helper
Maps are available for inspection at City Hall, 73 South Main Street, Helper, UT 84526.
Unincorporated Areas of Carbon County
Maps are available for inspection at the Carbon County Planning and Zoning Department, 120 East Main Street, Price, UT 84501.
Sanpete County, Utah, and Incorporated Areas
Docket No.: FEMA-B-1069
South Creek | Approximately 320 feet east of 100 South Street | +5529 | City of Manti, Unincorporated Areas of Sanpete County.
| Approximately 596 feet upstream of the Manti Creek confluence | +5838
* National Geodetic Vertical Datum.
+ North American Vertical Datum.
# Depth in feet above ground.
‸ Mean Sea Level, rounded to the nearest 0.1 meter.
ADDRESSES
City of Manti
Maps are available for inspection at City Hall, 50 South Main Street, Manti, UT 84642.
Unincorporated Areas of Sanpete County
Maps are available for inspection at the Sanpete County Building and Zoning Office, 160 North Main Street, Manti, UT 84642.
Racine County, Wisconsin, and Incorporated Areas
Docket No.: FEMA-B-7755
Bartlett Branch | At the Pike River confluence | +680 | Village of Mount Pleasant.
| Approximately 70 feet downstream of County Highway C (Spring Street) | +687
Chicory Creek | Approximately 570 feet upstream of the Pike River confluence | +668 | Village of Mount Pleasant, Village of Sturtevant.
| At the downstream side of 105th Street | +722
East/West Canal | At the North Cape Lateral confluence | +788 | Unincorporated Areas of Racine County.
| Approximately 40 feet downstream of U.S. Route 45 | +788
Fonk's Tributary | Approximately 200 feet upstream of the Union Grove Industrial Tributary confluence | +746 | Unincorporated Areas of Racine County.
| Approximately 4,880 feet upstream of the Union Grove Industrial Tributary confluence | +781
Kilbourn Road Ditch | At County Line Road | +726 | Village of Mount Pleasant.
| Approximately 2,400 feet downstream of I-94 | +734
Lamparek Creek | At the Pike River confluence | +660 | Village of Mount Pleasant.
| At the downstream side of 105th Street | +713
Nelson Creek | At County Line Road | +619 | Village of Mount Pleasant.
| At the downstream side of Garden Drive | +642
North Cape Lateral | Approximately 30 feet upstream of Britton Road | +774 | Unincorporated Areas of Racine County.
| Approximately 2,350 feet upstream of the East/West Canal confluence | +789
Pike River | At County Line Road | +657 | City of Racine, Village of Mount Pleasant.
| Approximately 80 feet downstream of County Highway C (Spring Street) | +684
Root River | At mouth at Lake Michigan | +584 | City of Racine.
| Approximately 825 feet upstream of Memorial Drive | +587
Sorenson Creek | At County Line Road | +617 | City of Racine, Village of Mount Pleasant.
| Approximately 75 feet downstream of Meachem Road | +654
Union Grove Industrial Tributary | At County Line Road | +743 | Unincorporated Areas of Racine County, Village of Union Grove.
| Approximately 30 feet downstream of Durand Avenue (State Highway 11) | +771
Unnamed Tributary No. 18 to Kilbourn Road Ditch | Approximately 1,110 feet downstream of I-94 | +733 | Unincorporated Areas of Racine County, Village of Mount Pleasant.
| At the upstream side of I-94 | +742
Unnamed Tributary No. 2 to West Branch Root River Canal | Approximately 30 feet upstream of Raymond Avenue | +705 | Unincorporated Areas of Racine County.
| Approximately 3,300 feet downstream of 65th Drive | +751
Unnamed Tributary No. 37 to Des Plaines River | Approximately 2,675 feet downstream of 69th Street | +712 | Unincorporated Areas of Racine County.
| Approximately 70 feet downstream of 69th Street | +730
Unnamed Tributary No. 38 to Des Plaines River | At the confluence with the Des Plaines River | +710 | Unincorporated Areas of Racine County.
| Approximately 2,750 feet upstream of Durand Avenue (State Highway 11) | +762
Unnamed Tributary No. 39 to Des Plaines River | At the confluence with the Des Plaines River | +710 | Unincorporated Areas of Racine County.
| Approximately 170 feet downstream of County Line Road | +746
Unnamed Tributary to Unnamed Tributary No. 2 to West Branch Root River Canal | Approximately 250 feet upstream of 65th Drive | +720 | Unincorporated Areas of Racine County.
| Approximately 125 feet downstream of Colony Avenue | +746
Waxdale Creek | At the Pike River confluence | +671 | Village of Mount Pleasant, Village of Sturtevant.
| Approximately 70 feet downstream of West Road | +735
* National Geodetic Vertical Datum.
+ North American Vertical Datum.
# Depth in feet above ground.
‸ Mean Sea Level, rounded to the nearest 0.1 meter.
ADDRESSES
City of Racine
Maps are available for inspection at City Hall, 730 Washington Avenue, Racine, Wisconsin 53403.
Unincorporated Areas of Racine County
Maps are available for inspection at the Racine County Planning and Development Department, 14200 Washington Avenue, Sturtevant, Wisconsin 53177.
Village of Mount Pleasant
Maps are available for inspection at the Mount Pleasant Village Hall, 6126 Durand Avenue, Racine, Wisconsin 53406.
Village of Sturtevant
Maps are available for inspection at the Village Hall, 2801 89th Street, Sturtevant, Wisconsin 53177.
Village of Union Grove
Maps are available for inspection at the Village Hall, 925 15th Avenue, Union Grove, Wisconsin 53182.

(Catalog of Federal Domestic Assistance No. 97.022, “Flood Insurance.”)

Dated: March 29, 2012.
Sandra K. Knight,
Deputy Associate Administrator for Mitigation, Department of Homeland Security, Federal Emergency Management Agency.

[FR Doc. 2012-8617 Filed 4-9-12; 8:45 am]

BILLING CODE 9110-12-P